DEPARTMENT OF COMMERCE

National Telecommunications and Information Administration

NTIA Listening Session on Bolstering Data Center Growth, Resilience and Security

AGENCY: National Telecommunications and Information Administration, U.S. Department of Commerce

ACTION: Notice of open meeting.

SUMMARY: The National Telecommunications and Information Administration (NTIA) will convene a virtual listening session on Bolstering Data Center Growth, Resilience and Security. This session will build upon NTIA's previous request for comment (RFC) and serve as an important opportunity to “refresh the docket” with the latest market analysis, feedback, and data. Stakeholder input will be used to inform a forthcoming NTIA report outlining challenges and opportunities to data center growth, resilience and security, as well as a targeted, actionable menu of policy recommendations.

DATES: The listening session will be held on July 22, 2025, from 10:00 a.m. to 12:00 p.m., Eastern Daylight Time.

ADDRESSES: The session will be held virtually, with online slide share and dial-in information to be posted at https://www.ntia.gov/.

FOR FURTHER INFORMATION CONTACT: Please direct questions regarding this notice to Jorge Pardo, Senior Telecommunications Policy Specialist (datacenters@ntia.gov), indicating “Bolstering Data Center Growth, Resilience and Security” in the subject line, or if by mail, addressed to National Telecommunications and Information Administration, U.S. Department of Commerce, 1401 Constitution Avenue NW, Washington, DC 20230; telephone: 202-482-3806. Please direct media inquiries to NTIA's Office of Public Affairs at press@ntia.gov.

SUPPLEMENTARY INFORMATION:

Background and Authority

In September 2024, NTIA launched an inquiry into how the federal government may support the growth of data centers to meet the coming demand from artificial intelligence and other emerging technologies. NTIA's RFC sought input on challenges and opportunities to bolster data center growth, resilience, and security. NTIA issued the RFC in coordination with the Department of Energy (DOE), given DOE's mission to ensure American's security and prosperity through addressing energy challenges with science and technology solutions. Comments to the RFC focused on issues such as power and infrastructure, supply chain, workforce, permitting, and cybersecurity, among others. NTIA will host a public listening session to further explore these key areas and inform its forthcoming report.

Time and Date: NTIA will convene the public listening session on July 22, 2025, from 10:00 a.m. to 12:00 p.m. Eastern Daylight Time. The exact time of the meeting is subject to change. Please refer to NTIA's website https://www.ntia.gov, for the most current information.

Place: The meeting will be held virtually, with online slide share and dial-in information to be posted at https://www.ntia.gov. Please refer to NTIA's website, https://www.ntia.gov for current information.

The meeting is open to the public and the press on a first-come, first-served basis. The virtual meeting is accessible to people with disabilities. Individuals requiring accommodations such as real-time captioning, sign language interpretation or other ancillary aids should notify the Department at datacenters@ntia.gov at least seven (7) business days prior to the meeting. Access details for the meeting are subject to change. Please refer to NTIA's website, https://www.ntia.gov, for the most current information.

Dated: June 13, 2025.
David Brodian,
Chief Counsel, National Telecommunications and Information Administration.

[FR Doc. 2025-11170 Filed 6-16-25; 8:45 am]

BILLING CODE 3510-60-P